DEPARTMENT OF ENERGY

Federal Energy Regulatory Commission

[Project No. 7118-007]

State of Maine Department of Marine Resources; Notice of Site Visit

April 10, 2002.

On April 23, 2002, the Office of Energy Projects staff will participate in a site visit to the Smelt Hill Hydroelectric Project on the Presumpscot River in the town of Falmouth, Maine. The site visit will begin at about 9 a.m. near the dam. All interested parties may attend the site visit. Those planning to attend must provide their own transportation. For further information, please contact the Commission's Office of External Affairs at (202) 208-0004.

Magalie R. Salas,
Secretary.

[FR Doc. 02-9185 Filed 4-15-02; 8:45 am]

BILLING CODE 6717-01-P